DEPARTMENT OF COMMERCE

International Trade Administration

[A-570-929]

Small Diameter Graphite Electrodes From the People's Republic of China: Continuation of Antidumping Duty Order

AGENCY: Enforcement and Compliance, International Trade Administration, Department of Commerce.

SUMMARY: As a result of the determinations by the Department of Commerce (Commerce) and the International Trade Commission (ITC) that revocation of the antidumping duty (AD) order on small diameter graphite electrodes (SDGEs) from the People's Republic of China (China) would likely lead to a continuation or recurrence of dumping and material injury to an industry in the United States, Commerce is publishing a notice of continuation of the AD order.

DATES: Applicable April 6, 2020.

FOR FURTHER INFORMATION: Jinny Ahn, AD/CVD Operations, Office VIII, Enforcement and Compliance, International Trade Administration, U.S. Department of Commerce, 1401 Constitution Avenue NW, Washington, DC 20230; telephone: (202) 482-0339.

SUPPLEMENTARY INFORMATION:

Background

On May 1, 2019, Commerce initiated a five-year sunset review of the AD order on SDGEs from China, pursuant to section 751(c) of the Tariff Act of 1930, as amended (the Act).¹ As a result of its review, Commerce determined that revocation of the AD order on SDGEs from China would likely lead to a continuation or recurrence of dumping and, therefore, notified the ITC of the magnitude of the margins likely to prevail should the order be revoked.² On March 27, 2020, the ITC published its determination, pursuant to section 751(c) of the Act, that revocation of the AD order on SDGEs from China would likely lead to a continuation or recurrence of material injury to an industry in the United States within a reasonably foreseeable time.³

¹ See Initiation of Five-Year (Sunset) Review, 84 FR 18477 (May 1, 2019).

² See Small Diameter Graphite Electrodes From the People's Republic of China: Final Results of Expedited Second Sunset Review of the Antidumping Duty Order, 84 FR 44852 (August 27, 2019).

³ See Small Diameter Graphite Electrodes from China: Determination, 85 FR 17363 (March 27, 2020); see also Small Diameter Graphite Electrodes from China: Investigation No. 731-TA-1143 (Second Review), USITC Publication 5035 (March 2020).

Scope of the Order

The merchandise covered by the order includes all small diameter graphite electrodes of any length, whether or not finished, of a kind used in furnaces, with a nominal or actual diameter of 400 millimeters (16 inches) or less, and whether or not attached to a graphite pin joining system or any other type of joining system or hardware. The merchandise covered by the order also includes graphite pin joining systems for small diameter graphite electrodes, of any length, whether or not finished, of a kind used in furnaces, and whether or not the graphite pin joining system is attached to, sold with, or sold separately from, the small diameter graphite electrodes. Small diameter graphite electrodes and graphite pin joining systems for small diameter graphite electrodes are most commonly used in primary melting, ladle metallurgy, and specialty furnace applications in industries including foundries, smelters, and steel refining operations. Small diameter graphite electrodes and graphite pin joining systems for small diameter graphite electrodes that are subject to the order are currently classified under the Harmonized Tariff Schedule of the United States (HTSUS) subheadings 8545.11.0010,⁴ 3801.10,⁵ and 8545.11.0020.⁶ The HTSUS numbers are provided for convenience and customs purposes, but the written description of the scope is dispositive.

⁴ The scope described in the order refers to the HTSUS subheading 8545.11.0000. We note that, starting in 2010, imports of small diameter graphite electrodes are classified in the HTSUS under subheading 8545.11.0010 and imports of large diameter graphite electrodes are classified under subheading 8545.11.0020.

⁵ HTSUS subheading 3801.10 was added to the scope of the graphite electrodes order based on a determination in Small Diameter Graphite Electrodes from the People's Republic of China: Affirmative Final Determination of Circumvention of the Antidumping Duty Order, 77 FR 47596 (August 9, 2012) (first circumvention determination). The products covered by the first circumvention determination are graphite electrodes (or graphite pin joining systems) that were 1) produced by UK Carbon and Graphite Co., Ltd. (UKCG) from China-manufactured artificial/synthetic graphite forms, of a size and shape (e.g., blanks, rods, cylinders, billets, blocks, etc.), 2) which required additional machining processes (i.e., tooling and shaping) that UKCG performed in the United Kingdom (UK), and 3) were re-exported to the United States as UK-origin merchandise.

⁶ HTSUS subheading 8545.11.0020 was added to the scope of the graphite electrodes order based on a determination in Small Diameter Graphite Electrodes from the People's Republic of China: Affirmative Final Determination of Circumvention of the Antidumping Duty Order and Rescission of Later-Developed Merchandise Anticircumvention Inquiry, 78 FR 56864 (September 16, 2013) (second circumvention determination). The products covered by the second circumvention determination are graphite electrodes produced and/or exported by Jilin Carbon Import and Export Company with an actual or nominal diameter of 17 inches.

Continuation of the Order

As a result of the determinations by Commerce and the ITC that revocation of the AD order would likely lead to a continuation or recurrence of dumping and material injury to an industry in the United States, pursuant to section 751(d)(2) of the Act, Commerce hereby orders the continuation of the AD order on SDGEs from China. U.S. Customs and Border Protection will continue to collect AD cash deposits at the rates in effect at the time of entry for all imports of subject merchandise. The effective date of the continuation of the order will be the date of publication in the Federal Register of this notice of continuation. Pursuant to section 751(c)(2) of the Act, Commerce intends to initiate the next five-year review of the order not later than 30 days prior to the fifth anniversary of the effective date of continuation.

Notification to Interested Parties

This five-year sunset review and this notice are in accordance with section 751(c) of the Act and published pursuant to section 777(i)(1) of the Act.

Dated: March 31, 2020.
Jeffrey I. Kessler,
Assistant Secretary for Enforcement and Compliance.

[FR Doc. 2020-07150 Filed 4-3-20; 8:45 am]

BILLING CODE 3510-DS-P